DEPARTMENT OF THE INTERIOR

Bureau of Land Management

[LLNVS030000.L71220000.ES0000 241A; Nev-57750; 12-08807; MO#4500074390; TAS: 14X5232]

Notice of Realty Action: Recreation and Public Purposes Lease for Change of Use and Conveyance of Public Lands in Nye County, NV

AGENCY: Bureau of Land Management, Interior.

ACTION: Notice.

SUMMARY: The Bureau of Land Management (BLM) Pahrump Field Office has examined and proposes to change the use of a 400-acre Recreation and Public Purposes (R&PP) Lease from a buffer zone to a landfill located in Nye County, Nevada. The land has been leased by the Nevada Division of State Lands (NDSL) since 1962, and it surrounds an existing 80-acre landfill. The conveyance would be offered pursuant to the Recreation and Public Purposes (R&PP) Act of 1926. The NDSL proposes to use the land for a Resource Conservation and Recovery Act (RCRA) Subtitle C landfill and disposal site.

DATES: Interested persons may submit written comments regarding the proposed change of use, Environmental Assessment (EA) and conveyance of public lands until February 26, 2015.

ADDRESSES: Send written comments to the BLM, Pahrump Field Office, 4701 N. Torrey Pines Drive, Las Vegas, NV 89130.

FOR FURTHER INFORMATION CONTACT: Erica Pionke, Realty Specialist, by telephone at 702-515-5059, or by email at epionke@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The parcel of public land that is proposed for the change of use and conveyance of an R&PP Lease is described as:

Mount Diablo Meridian, Nevada

T. 13 S., R. 47 E.,

Sec. 26, S½SW¼, S½SE¼;

Sec. 35, NW¼NW¼, S½NW¼, S½NE¼, NE¼NE¼.

The area described contains 400 acres more or less.

Upon publication of this notice, only written comments submitted within 45 days from publication will be considered properly filed.

The BLM has prepared EA, DOI-BLM-NV-S030-2014-0012-EA for the proposed change of use and conveyance of the public lands. The NEPA review period will run consecutively with this notice. Comments to this notice and the above referenced EA will be addressed in the final EA. The EA is available for review at the Southern Nevada District Office Web site at: http://www.blm.gov/nv/st/en.html. The notice will be published once a week for three weeks in the Tonopah Times-Bonanza.

The NDSL has not applied for more than the 640-acre annual limitation for public purposes other than recreation use, and has submitted a statement in compliance with regulation at 43 CFR 2741.4(b). The NDSL is a qualified applicant under the R&PP Act.

A conveyance will be subject to the provisions of the R&PP Act and applicable regulations set by the Secretary of the Interior, including but not limited to the terms required by 43 CFR 2741.9.

1. A reservation to the United States for ditches and canals constructed by the authority of the United State pursuant to the Act of August 30, 1890 (43 U.S.C. 945);

2. A reservation to the United States for all minerals shall be reserved to the United States, together with the right to prospect for, mine, and remove such deposits from the same under applicable law and such regulations as the Secretary of the Interior may prescribe;

3. Conveyance of the public land shall be subject to valid existing rights and reservation of record;

4. An appropriate indemnification clause protecting the United States from claims arising out of the patentee's use, occupancy, or operations on the patented lands;

5. No portion of the land patented shall revert back to the United States under any circumstance. In addition, the patentee will comply with all Federal and State law applicable to the disposal, placement, or release of hazardous substances (substance as defined in 40 CFR part 302); and

6. Any other reservations that the authorized officer determines appropriate to ensure public access and proper management of Federal land and interests therein. Subject to limitations prescribed by law and regulations, prior to conveyance, a holder of any right-of-way (ROW) within the lease area may be given the opportunity to amend the ROW for conversion to a new term, including perpetuity, if applicable.

Detailed information about this R&PP Lease change of use and conveyance, including, but not limited to documentation relating to compliance with applicable environmental and cultural resource laws, is available for review at the BLM Pahrump Field Office at the address above.

Upon publication of this notice in the Federal Register, the land described above will be segregated from all other forms of appropriation under the public land laws, including the general mining laws, except for lease and/or conveyance under the R&PP Act, leasing under the mineral leasing laws and disposal under the mineral material disposal laws.

Before including your address, phone number, email address, or other personal identifying information in your comment, you should be aware that your entire comment including any personal identifying information may be made publicly available at any time. While you can ask us in your comment to withhold your personal identifying information from public review, we cannot guarantee that we will be able to do so.

Any adverse comments regarding the proposed conveyance will be reviewed by the BLM Nevada State Director or other authorized official of the Department of the Interior, who may sustain, vacate, or modify this realty action. In the absence of timely filed objections, this realty action will become the final determination of the Department of the Interior.

(Authority: 43 CFR 2741.5)
Mark Tanaka-Sanders,
Acting Pahrump Field Manager.

[FR Doc. 2015-00236 Filed 1-9-15; 8:45 am]

BILLING CODE 4310-HC-P